DEPARTMENT OF COMMERCE

National Oceanic and Atmospheric Administration

RIN 0648-XF966

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Ad Hoc Ecosystem Workgroup (EWG) will hold a webinar, which is open to the public.

DATES: The webinar will be held Monday, February 26, 2018. It will start at 1:30 p.m. and continue until 3:30 p.m.

ADDRESSES: The meeting will be held via webinar. A public listening station is available at the Pacific Council office (address below). To attend the webinar (1) join the meeting by visiting this link http://www.gotomeeting.com/online/webinar/join-webinar, (2) enter the Webinar ID: 745-857-467, and (3) enter your name and email address (required). After logging in to the webinar, you must use your telephone for the audio portion of the meeting by (1) dialing this TOLL number +1 (415) 655-0060, (2) entering the attendee phone audio access code 272-129-533, and (3) then entering your audio phone pin (shown after joining the webinar). Note: Technical Information and system requirements: PC-based attendees are required to use Windows® 7, Vista, or XP; Mac®-based attendees are required to use Mac OS® X 10.5 or newer; Mobile attendees are required to use iPhone®, iPad®, Android™ phone or Android tablet (See the https://www.gotomeeting.com/webinar/ipad-iphone-android-webinar-apps). You may send an email to Mr. Kris Kleinschmidt at Kris.Kleinschmidt@noaa.gov or contact him at 503-820-2280, extension 411 for technical assistance.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: At its September 2017 meeting, the Pacific Council decided to embark on the Climate and Communities Initiative pursuant to its Fishery Ecosystem Plan. The purpose of this initiative is to help the Pacific Council, its advisory bodies, and the public to better understand the effects of near-term climate shift and long-term climate change on our fish, fisheries, and fishing communities and identify ways in which the Council could incorporate such understanding into its decision-making. The EWG will be submitting a report to the Pacific Council at its March 2018 meeting with its recommendations on the development of this initiative. This webinar is an opportunity for members of other Pacific Council advisory bodies and the public to be briefed on the EWG's recommendations in preparation for the March Pacific Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411 at least 10 business days prior to the meeting date.

Dated: January 19, 2018.
Jeffrey N. Lonergan,
Acting Deputy Director, Office of Sustainable Fisheries, National Marine Fisheries Service.

[FR Doc. 2018-01291 Filed 1-23-18; 8:45 am]

BILLING CODE 3510-22-P